Executive Order 13424 of January 26, 2007

Further Amendment to Executive Order 13285, Relating to the President's Council on Service and Civic Participation

By the authority vested in me as President by the Constitution and the laws of the United States of America, and in order to extend the President's Council on Service and Civic Participation, it is hereby ordered that Executive Order 13285 of January 29, 2003, as amended, is further amended by revising section 4(b) to read as follows: “(b) Unless further extended by the President, this order shall expire on November 30, 2008.”

THE WHITE HOUSE,

January 26, 2007.

[FR Doc. 07-419

Filed 1-29-07; 8:45 am]

Billing code 3195-01-P